DEPARTMENT OF HOUSING AND URBAN DEVELOPMENT

[Docket No. FR-5044-N-03]

Notice of Proposed Information Collection for Public Comment: Moving to Work Plans and Reports

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: March 31, 2006.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms and other available documents. (This is not a toll-free number).

SUPPLEMENTARY INFORMATION: The Department will submit the proposed information collection to OMB review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

The notice also lists the following information:

Title of Proposal: Moving to Work Plans and Reports.

OMB Control Number: 2577-0216.

Description of the Need for the Information and Proposed Use: Those Housing Agencies participating in the Moving to Work Demonstration program (MTW) that have implemented specific aspects of the demonstration are required to submit MTW plans and reports instead of traditional Public Housing plans. The specific information outlined for the MTW plans and reports is based on requirements from the statute.

Agency Form Number: HUD-50900.

Members of the Affected Public: State or local government.

Estimation of the total number of hours needed to prepare the information collection including number of respondents:

Number of respondents | Frequency of submission | Hours of responses | Burden hours
16 | 2 annual | 40 | 1280

Status of the Proposed Information Collection: Reinstatement of previously approved collection.

Authority: Section 3506 of the Paperwork Reduction Act of 1995, 44 U.S.C. chapter 35, as amended.

Dated: January 19, 2006.
Bessy Kong,
Deputy Assistant Secretary for Policy, Program, and Legislative Initiatives.

[FR Doc. E6-1131 Filed 1-27-06; 8:45 am]

BILLING CODE 4210-33-P